DEPARTMENT OF TRANSPORTATION

Federal Aviation Administration

14 CFR Part 71

[Docket No. FAA-2004-17900; Airspace Docket No. 04-AEA-08]

Amendment of Class E Airspace; Norfolk, VA

AGENCY: Federal Aviation Administration (FAA) DOT.

ACTION: Final rule; request for comments.

SUMMARY: This action removes the description of the Class E airspace designated for Norfolk NAS (Chambers Field), VA; Langley AFB, Hampton, VA; Oceana NAS (Apollo Soucek Field), VA; Fentress NALF, VA; Felker AAF, Ft. Eustis, VA; Newport News/Williamsburg International Airport, Newport News, VA; Chesapeake Regional Airport, VA; Hampton Roads Executive Airport, Portsmouth, VA; Aberdeen Field Airport, VA; Hummel Field Airport, VA; Suffolk Municipal Airport, VA; Middle Peninsula Regional Airport, West Point, VA; and Williamsburg-Jamestown Airport, VA. The affected Class E-5 airspace for the airports included in these descriptions will be consolidated into the amended Norfolk, VA airspace description contained in Docket No. FAA-2004-17596, Airspace Docket No. 04-AEA-06, effective August 5, 2004.

DATES: Effective Date: August 5, 2004.

Comment Date: Comments must be received on or before July 15, 2004.

ADDRESSES: Send comments on the rule to the Docket Management System, U.S. Department of Transportation, Room Plaza 401, 400 Seventh Street, SW., Washington, DC 20590-0001. You must identify the docket number FAA-2004-17900; Airspace Docket No. 04-AEA-08 at the beginning of your comments. You may also submit comments on the Internet at http://dms.dot.gov. You may review the public docket containing the rule, any comments received, and any final disposition in person in the Docket Office between 9 a.m. and 5 p.m., Monday through Friday, except Federal holidays. The Docket Office (telephone 1-800-647-5527) is on the plaza level of the Department of Transportation NASSIF Building at the above address.

An informal docket may also be examined during normal business hours at the office of the Regional Air Traffic Division, Federal Aviation Administration, Eastern Region, 1 Aviation Plaza, Jamaica, NY 11434-4890.

FOR FURTHER INFORMATION CONTACT: Mr. Francis Jordan, Airspace Specialist, Airspace Branch, AEA-520, Aviation Plaza, Jamaica, NY 11434-4809, telephone: (718) 553-4521.

SUPPLEMENTARY INFORMATION: Although this action is a final rule, which involves the amendment of Class E airspace within Virginia, by consolidating that airspace into one description, and was not preceded by notice and public procedure, comments are invited on the rule. This rule will become effective on the date specified in the DATES section. However, after the review of any comments, if the FAA finds that further changes are appropriate, it will initiate rulemaking proceedings to extend the effective date or to amend the regulation.

Comments that provide the factual basis supporting the views and suggestions presented are particularly helpful in evaluating the effects of the rule, and in determining whether additional rulemaking is required. Comments are specifically invited on the overall regulatory, aeronautical, economic, environmental, and energy-related aspects of the rule which might suggest the need to modify the rule.

The Rule

This amendment to part 71 of the Federal Aviation Regulations (14 CFR part 71) amends the description of Class E airspace in the Norfolk, VA area by removing the airspace designations for Norfolk NAS (Chambers Field), VA: Langley AFB, Hampton, VA; Oceana NAS (Apollo Soucek Field), VA; Frentess NALF, VA; Felker AAF, Ft. Eustis, VA; Newport News/Williamsburg International Airport, Newport News, VA; Chesapeake Regional Airport, VA; Hampton Roads Executive Airport, Portsmouth, VA; Aberdeen Field Airport, VA; Hummel Field Airport, VA; Suffolk Municipal Airport, VA; Middle Peninsula Regional Airport, VA; and Williamsburg-Jamestown Airport, VA. It consolidates those airspace areas into the amended Norfolk, VA description.

The proliferation of airports with Instrument Flight Rule (IFR) operations within the Norfolk, VA metropolitan area has resulted in the overlap of numerous Class E airspace areas that complicate the chart depictions. This action clarifies the airspace and diminishes the scope and complexity of charting. The IFR airports within those areas will be incorporated into the Norfolk, VA Class E airspace area. Accordingly, since this action merely consolidates these airspace areas into one airspace designation and his inconsequential impact on aircraft operations in the area, notice and public procedure under 5 U.S.C. 553(b) are unnecessary.

Class E airspace designations for airspace extending upward from 700 feet or more above the surface of the earth are published in paragraph 6005 of FAA Order 7400.9L, dated September 2, 2003, and effective September 16, 2003, which is incorporated by reference in 14 CFR 71.1. The Class E airspace designation listed in this document will be published subsequently in the Order. The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation it is certified that this rule will not have significant economic impact on a substantial number of small entities under the criteria of the Regulatory Flexibility Act.

List of Subjects in 14 CFR Part 71

Airspace, Incorporated by reference, Navigation (air).

Adoption of the Amendment

In consideration of the foregoing, the Federal Aviation Administration amends 14 CFR part 71 as follows:

PART 71—[AMENDED]

1. The authority citation for part 71 continues to read as follows:

Authority 49 U.S.C. 106(g), 40103, 40113, 40120; E.O. 10854; 24 FR 9565, 3 CFR, 1959-1963 Comp., p. 389.

§ 71.1 [Amended]

2. The incorporation by reference in 14 CFR 71.1 of the Federal Aviation Administration Order 7400.9L, Airspace Designations and Reporting Points, dated September 2, 2003 and effective September 16, 2003, is amended as follows:

Paragraph 6005 Class E airspace areas extending from 700 feet or more above the surface of the earth.

* * * * *

AEA VA E5 Chesapeake, VA, [Removed]

AEA VA E5 Portsmouth, VA, [Removed]

AEA VA E5 Saluda, VA, [Removed]

AEA VA E5 Smithfield, VA, [Removed]

AEA VA E5 Suffolk, VA, [Removed]

AEA VA E5 West Point, VA, [Removed]

AEA VA E5 Williamsburg, VA, [Removed]

* * * * *

Issued in Jamaica, New York on June 12, 2004.
John G. McCartney,
Assistant Manager, Air Traffic Division, Eastern Region.

[FR Doc. 04-13831 Filed 6-17-04; 8:45 am]

BILLING CODE 4910-13-M